DEPARTMENT OF THE INTERIOR

National Park Service

[N6956; NPS-WASO-NAGPRA-NPS0042092; PPWOCRADN0-PCU00RP14.R50000]

Notice of Intended Repatriation: Wisconsin Historical Society, Madison, WI

AGENCY: National Park Service, Interior.

ACTION: Notice.

SUMMARY: In accordance with the Native American Graves Protection and Repatriation Act (NAGPRA), the Wisconsin Historical Society intends to repatriate a certain cultural item that meets the definition of a sacred object/object of cultural patrimony and that has a cultural affiliation with the Indian Tribes or Native Hawaiian organizations in this notice.

DATES: Repatriation of the cultural item in this notice may occur on or after April 1, 2026.

ADDRESSES: Send additional, written requests for repatriation of the cultural item in this notice to Jacqueline Pozza Reisner, Wisconsin Historical Society, 204 S Thornton Avenue, Madison, WI 53703, email jacqueline.pozza@wisconsinhistory.org.

SUPPLEMENTARY INFORMATION: This notice is published as part of the National Park Service's administrative responsibilities under NAGPRA. The determinations in this notice are the sole responsibility of the Wisconsin Historical Society, and additional information on the determinations in this notice, including the results of consultation, can be found in the summary or related records. The National Park Service is not responsible for the determinations in this notice.

Abstract of Information Available

A total of one cultural item has been requested for repatriation. The one sacred object/object of cultural patrimony is an Ojibwe presentation pipe. Its carved wooden stem has sections painted red, attached horsehair and a pileated woodpecker scalp, and white, red, and brown quillwork with Thunderbird designs. Its L-shaped catlinite bowl has two human faces on opposite sides of the bowl and a carved buffalo figure on the anterior edge. WHS documentation indicates that “Taychegwiaunee, a member of the Ojibwe Band from the south shore of Lake Superior [the LaPointe Band], presented this pipe to Wisconsin's territorial governor James Duane Doty [at Fort Winnebago] on behalf of his father, Chief Buffalo,” on February 12, 1844. National Archives documentation indicates that the pipe was presented to Doty with the direction to pass it onto President Tyler for use in a future meeting with the Band. Doty kept the pipe, and it was eventually added to WHS' collections. WHS has no documentation that this pipe includes or was treated with any potentially hazardous substances.

Determinations

The Wisconsin Historical Society has determined that:

• The one sacred object/object of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural item described in this notice and the Bad River Band of the Lake Superior Tribe of Chippewa Indians of the Bad River Reservation, Wisconsin and the Red Cliff Band of Lake Superior Chippewa Indians of Wisconsin.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after April 1, 2026. If competing requests for repatriation are received, the Wisconsin Historical Society must determine the most appropriate requestor prior to repatriation. Requests for joint repatriation of the cultural item are considered a single request and not competing requests. The Wisconsin Historical Society is responsible for sending a copy of this notice to the Indian Tribes and Native Hawaiian organizations identified in this notice and to any other consulting parties.

Authority: Native American Graves Protection and Repatriation Act, 25 U.S.C. 3004 and the implementing regulations, 43 CFR 10.9.

Dated: February 20, 2026.
Melanie O'Brien,
Manager, National NAGPRA Program.

[FR Doc. 2026-04043 Filed 2-27-26; 8:45 am]

BILLING CODE 4312-52-P